DEPARTMENT OF STATE

[Public Notice 5925]

60-Day Notice of Proposed Information Collection: Refugee Biographic Data, OMB Control Number 1405-0102

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

Title of Information Collection: Refugee Biographic Data.

OMB Control Number: 1405-0102.

Type of Request: Extension of a Currently Approved Collection.

Originating Office: Bureau of Population, Refugees, and Migration, PRM/A.

Form Number: N/A.

Respondents: Refugee applicants for the U.S. Resettlement Program.

Estimated Number of Respondents: 70,000.

Estimated Number of Responses: 70,000.

Average Hours Per Response: One-half hour.

Total Estimated Burden: 35,000 hours.

Frequency: Once per respondent.

Obligation to Respond: Required to Obtain a Benefit.

DATES: The Department will accept comments from the public up to 60 days from September 4, 2007.

ADDRESSES: You may submit comments by either of the following methods:

• E-mail: firesteinjy@state.gov. You must submit information collection title and OMB control number in the subject line of your message.

• Mail (paper, disk, or CD-ROM submissions): PRM/Admission, 2401 E Street, NW. Suite L505, SA-1 Washington, DC 20522.

FOR FURTHER INFORMATION CONTACT: Direct requests for additional information regarding the collection listed in this notice, including requests for copies of the proposed information collection and supporting documents, to Jessica Firestein, PRM/Admission, 2401 E Street, NW. Suite L505, SA-1 Washington, DC 20522, who may be reached at 202-663-1045.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: The Refugee Biographic Data Sheet describes a refugee applicant's personal characteristics and is needed to match the refugee with a sponsoring voluntary agency to ensure initial reception and placement in the U.S.under the United States Refugee Program administered by the Bureau for Population, Refugees, and Migration.

Methodology: Biographic information is collected in a face-to-face interview of the applicant overseas. An employee of an Overseas Processing Entity, under contract with PRM, collects the information and enters it into the Worldwide Refugee Admissions Processing System.

Dated: August 20, 2007.
Terry Rusch,
Director, Office of Admissions, Bureau of Population, Refugees and Migration, Department of State.

[FR Doc. E7-17426 Filed 8-31-07; 8:45 am]

BILLING CODE 4710-33-P